DEPARTMENT OF TRANSPORTATION

Federal Aviation Administration

14 CFR Part 39

[Docket No. 2001-NM-161-AD; Amendment 39-13430; AD 2004-01-16]

RIN 2120-AA64

Airworthiness Directives; McDonnell Douglas Model MD-11 and -11F Airplanes

AGENCY: Federal Aviation Administration, DOT.

ACTION: Final rule; correction.

SUMMARY: This document corrects an error that appeared in airworthiness directive (AD) 2004-01-16 that was published in the Federal Register on January 20, 2004 (69 FR 2659). The error resulted in the omission of the phrase “as applicable.” This AD is applicable to certain McDonnell Douglas Model MD-11 and -11F airplanes. This AD requires revising the wire connection stackups for the terminal strip of the generator feeder tail compartment of the auxiliary power unit (APU), and removing a nameplate, as applicable. For certain airplanes, this AD also requires replacing the terminal strips and revising the terminal hardware stackup for the feeder of the center cargo loading system.

DATES: Effective February 24, 2004.

FOR FURTHER INFORMATION CONTACT: Brett Portwood, Aerospace Engineer, Systems and Equipment Branch, ANM-130L, FAA, Los Angeles Aircraft Certification Office, 3960 Paramount Boulevard, Lakewood, California 90712-4137; telephone (562) 627-5350; fax (562) 627-5210.

SUPPLEMENTARY INFORMATION: Airworthiness Directive (AD) 2004-01-16, amendment 39-13430, applicable to certain McDonnell Douglas Model MD-11 and -11F airplanes, was published in the Federal Register on January 20, 2004 (69 FR 2659). That AD requires revising the wire connection stackups for the terminal strip of the generator feeder tail compartment of the auxiliary power unit (APU), and removing a nameplate, as applicable. For certain airplanes, that AD also requires replacing the terminal strips and revising the terminal hardware stackup for the feeder of the center cargo loading system.

As published, the phrase “as applicable” was inadvertently omitted from paragraph (a)(2) of AD 2004-01-16. As specified in the referenced service bulletin (McDonnell Douglas Alert Service Bulletin MD11-24A173, Revision 02, dated May 2, 2002), the inspection area is defined as follows:

1. For Group 1 airplanes: The aft cargo compartment; and

2. For Group 2 airplanes: Both the aft and center cargo compartments.

Without the phrasing “as applicable,” operators of Group 1 airplanes may misinterpret that both the aft and center cargo compartments must be inspected.

Since no other part of the regulatory information has been changed, the final rule is not being republished in the Federal Register.

The effective date of this AD remains February 24, 2004.

PART 39—[AMENDED]

§ 39.13 [Corrected]

On page 2661, in the first column, paragraph (a)(2) of AD 2004-01-16 is corrected to read as follows:

* * * * *

(2) Do a general visual inspection to detect arcing damage of the surrounding structure, adjacent system components, and electrical cables in the center cargo and aft cargo compartments, as applicable.

* * * * *

Issued in Renton, Washington, on May 10, 2004.
Kalene C. Yanamura,
Acting Manager, Transport Airplane Directorate, Aircraft Certification Service.

[FR Doc. 04-11285 Filed 5-19-04; 8:45 am]

BILLING CODE 4910-13-P